DEPARTMENT OF HEALTH AND HUMAN SERVICES

Administration for Children and Families

Statement of Organization, Functions, and Delegations of Authority; Correction

AGENCY: Office of Administration (OA), ACF, DHHS.

ACTION: Notice; correction.

SUMMARY: This notice corrects the Statement of Organization, Functions, and Delegations of Authority published on February 27, 2001 (66 FR 12525).

FOR FURTHER INFORMATION CONTACT: Gabrielld Mitchell, Administration for Children and Families, Office of Administration, 370 L'Enfant Promenade, SW., Washington, DC 20447, Phone: 202-401-5102.

Correction

In our notice issued February 27, 2001 (66 FR 12525), make the following correction. On page 12526 in the third column, paragraph D, third line, insert “Secretary, through the Deputy Assistant Secretary for Administration, on,” after the word, “Assistant.”

Dated: April 2, 2001.
Carol Carter Walker,
Acting Deputy Assistant Secretary for Administration.

[FR Doc. 01-8574 Filed 4-6-01; 8:45 am]

BILLING CODE 4184-01-M